DEPARTMENT OF COMMERCE

International Trade Administration

[A-821-811]

Solid Fertilizer Grade Ammonium Nitrate From the Russian Federation: Notice of Rescission of Antidumping Duty Administrative Review

AGENCY: Import Administration, International Trade Administration, Department of Commerce.

FOR FURTHER INFORMATION CONTACT: Elizabeth Eastwood, AD/CVD Operations, Office 2, Import Administration, International Trade Administration, U.S. Department of Commerce, 14th Street and Constitution Avenue NW., Washington, DC 20230; telephone: (202) 482-3874.

SUPPLEMENTARY INFORMATION:

Background

On April 10, 2012, the Department of Commerce (the Department) published in the Federal Register a notice of “Opportunity to Request Administrative Review” of the antidumping duty order on solid fertilizer grade ammonium nitrate (ammonium nitrate) from the Russian Federation (Russia) for the period of review (POR) of May 2, 2011, through March 31, 2012.¹ The Department received timely-filed requests from JSC Acron (Acron) and MCC EuroChem (EuroChem) (the respondents) in accordance with 19 CFR 351.213(b), for an administrative review of the antidumping duty order on ammonium nitrate from Russia. On May 29, 2012, the Department published a notice of initiation of an administrative review of the antidumping duty order on ammonium nitrate from Russia for Acron and EuroChem.² On the same date, we: (1) Issued the antidumping questionnaire to these companies; and (2) requested information from U.S. Customs and Border Protection (CBP) on imports of subject merchandise from these respondents during the POR, in accordance with our practice. In June 2012, we received the requested CBP information, which showed that neither Acron nor EuroChem had entries of subject merchandise during the POR. On June 5, 2012, we placed a memorandum on the administrative record of this case stating that our review of the CBP database showed no POR entries of subject merchandise by the respondents.³ We released the results of our CBP data query to the respondents and CF Industries, Inc. and El Dorado Chemical Company (collectively, the petitioners). We received no comments on the CBP data.

¹ See Ammonium Nitrate from Russia: Correction to Notice of Opportunity to Request Administrative Review, 77 FR 21527 (Apr. 10, 2012).

² See Initiation of Antidumping and Countervailing Duty Administrative Reviews and Requests for Revocation in Part, 77 FR 31586, 31570 (May 29, 2012).

³ See the June 5, 2012, memorandum from Elizabeth Eastwood, Senior Analyst, to the file, entitled, “2011-2012 Antidumping Duty Administrative Review: Solid Fertilizer Grade Ammonium Nitrate (Ammonium Nitrate) from the Russian Federation (Russia): Data Query Request.”

On June 20, 2012, Acron submitted its response to section A of the Department's antidumping questionnaire, which indicated that Acron had a shipment of subject merchandise to the United States in March 2012; however, the entry documentation submitted with this response showed that the entry associated with this shipment was not made until after the end of the POR. See Acron's June 20, 2012, response at Exhibits 1 and 19.

On June 22, 2012, EuroChem submitted a partial response to section A of the Department's antidumping duty questionnaire, which stated that EuroChem also had a shipment of subject merchandise to the United States in March 2012. Unlike Acron, however, EuroChem provided a CBP 7501 form indicating that the entry associated with this shipment occurred on March 26, 2012. See EuroChem's June 22, 2012, submission at Exhibit 2. Because this information was not consistent with the underlying CBP data, on June 25, 2012, we queried the CBP database as to the status of the particular entry in question. According to the CBP database, although EuroChem submitted its entry documentation on March 26, 2012, the entry was not accepted by CBP as entered until after the end of the POR.

Because neither respondent had an entry of subject merchandise into the United States during the POR, on June 28, 2012, the Department placed a memorandum on the record notifying interested parties of its intent to rescind this administrative review.⁴ We invited parties to comment on our Intent to Rescind Memo. On July 9, 2012, we received comments from the respondents, and on July 16, 2012, we received rebuttal comments from the petitioners.

⁴ See the June 28, 2012, memorandum from Holly Phelps, Analyst, to James Maeder, Director, Office 2, entitled, “Intent to Rescind Administrative Review: 2011-2012 Antidumping Duty Administrative Review of Solid Fertilizer Grade Ammonium Nitrate from the Russian Federation” (Intent to Rescind Memo).

On August 24, 2012, we placed a memorandum on the record regarding EuroChem's entry date, to which EuroChem responded on September 4, 2012.

Rescission of Review

It is the Department's practice to rescind an administrative review pursuant to 19 CFR 351.213(d)(3) when there are no reviewable entries of subject merchandise during the POR subject to the antidumping duty order and for which liquidation is suspended.⁵ At the end of the administrative review, the suspended entries are liquidated at the assessment rate computed for the review period. See 19 CFR 351.212(b)(l). Therefore, for an administrative review to be conducted, there must be a reviewable, suspended entry to be liquidated at the newly calculated assessment rate. As discussed in the Issues and Decision Memorandum (Decision Memo) accompanying this notice, we find that neither respondent made entries of subject merchandise during the POR. Therefore, we are rescinding this review of the antidumping duty order on ammonium nitrate from Russia pursuant to 19 CFR 351.213(d)(3).

⁵ See, e.g., Certain Frozen Warmwater Shrimp From Brazil: Notice of Rescission of Antidumping Duty Administrative Review, 77 FR 32498 (June 1, 2012); and Certain Steel Concrete Reinforcing Bars From Turkey; Preliminary Results of Antidumping Duty Administrative Review, 67 FR 21634, 21635 (May 1, 2002), unchanged in Certain Steel Concrete Reinforcing Bars From Turkey; Final Results and Partial Rescission of Antidumping Duty Administrative Review, 67 FR 66110 (Oct. 30, 2002).

Analysis of Comments Received

All issues raised in by parties to this administrative review in their comments are addressed in the Decision Memo, which is adopted by this notice. Parties can find a complete discussion of all issues and the corresponding recommendations in this public memorandum, which is on file electronically via IA ACCESS in the Central Records Unit, room 7046, of the main Department of Commerce building.

In addition, a complete version of the Decision Memo can be accessed directly on the Web at http://ia.ita.doc.gov/frn/. The paper copy and electronic version of the Decision Memo are identical in content.

This notice is published in accordance with section 751 of the Tariff Act of 1930, as amended, and 19 CFR 351.213(d)(4).

Dated: October 22, 2012.
Paul Piquado,
Assistant Secretary for Import Administration.

[FR Doc. 2012-26531 Filed 10-26-12; 8:45 am]

BILLING CODE 3510-DS-P